DEPARTMENT OF COMMERCE

National Oceanic and Atmospheric Administration

[I.D. 110801A]

Marine Mammals; File No. 481-1623-00

AGENCY: National Marine Fisheries Service (NMFS), National Oceanic and Atmospheric Administration (NOAA), Commerce.

ACTION: Receipt of application.

SUMMARY: Notice is hereby given that LGL Limited, Environmental Research Associates, 22 Fisher Street, POB 280, King City, Ontario, Canada L7B 1A6 (Principal Investigator: Dr. John W. Lawson) has applied in due form for a permit to take ringed seals (Phoca hispida) and incidentally take bearded seals (Erignathus barbatus) and spotted seals (Phoca largha) for purposes of scientific research.

DATES: Written or telefaxed comments must be received on or before December 19, 2001.

ADDRESSES: The application and related documents are available for review upon written request or by appointment in the following office(s):

Permits and Documentation Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

FOR FURTHER INFORMATION CONTACT: Ruth Johnson or Amy Sloan (301) 713-2289.

SUPPLEMENTARY INFORMATION: The subject permit is requested under the authority of the Marine Mammal Protection Act of 1972, as amended (MMPA; 16 U.S.C. 1361 et seq.), and the Regulations Governing the Taking and Importing of Marine Mammals (50 CFR part 216).

The applicant has requested a permit to take ringed seals and incidentally take bearded and spotted seals annually. Researchers will use trained dogs within the fast ice distant from and near to industrial activities during winter to locate seals. LGL proposes to:

(a) take 150 seals by harassment during on-ice searchers for breathing holes and resting lairs, and during setup and recovery of the VHF receiver stations, 20 ringed seals will be captured and tagged with VHF transmitters and implant PIT (Passive Integrated Transponder) tags;

(b) take up to 5 accidental mortalities, over a 5-year period;

(c) take an unlimited number of seals during four aerial survey transects, each survey requiring two days. Two days of surveys constitutes one of four complete survey coverages of the study area. These surveys had been conducted under Letter of Confirmation No. 481-1626 issued under authority of the General Authorization for Scientific Research. That authorization will be incorporated into the scientific research permit, if issued;

(d) conduct acoustic characterization of on-ice anthropogenic sounds by employing calibrated hydrophones, microphones and geophones in holes drilled through the ice near an intended path of a vibroseis seismic survey convoy or some other noisy anthropogenic activities and make acoustic recordings as the operation moves past. To characterize received levels for ringed seals, seal lairs will be instrumented with these acoustic recording instruments to measure the characteristics of man-made sounds in a natural seal structure and to obtain concurrent acoustic and behavioral data from the same lair by deploying telemetry devices within the lair (i.e., recording thermistors);

(e) conduct genetic and contaminant studies of ringed seals using teeth and tissue samples acquired from Native hunters during subsistence harvests. Teeth and tissue samples for contaminant studies will also be acquired from Native hunters for bearded and spotted seals.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: November 13, 2001.
Ann D. Terbush,
Chief, Permits and Documentation Division, Office of Protected Resources, National Marine Fisheries Service.

[FR Doc. 01-28879 Filed 11-16-01; 8:45 am]

BILLING CODE 3510-22-S